DEPARTMENT OF TRANSPORTATION

Federal Aviation Administration

14 CFR Part 39

[Docket No. FAA-2017-0867; Product Identifier 2017-CE-021-AD]

RIN 2120-AA64

Airworthiness Directives; Viking Air Limited Airplanes

AGENCY: Federal Aviation Administration (FAA), Department of Transportation (DOT).

ACTION: Supplemental notice of proposed rulemaking (SNPRM); reopening of the comment period.

SUMMARY: We are revising an earlier proposal for all Viking Air Limited Models DHC-2 Mk. I, DHC-2 Mk. II, and DHC-2 Mk. III airplanes. This proposed airworthiness directive (AD) results from mandatory continuing airworthiness information (MCAI) originated by an aviation authority of another country to identify and address an unsafe condition on an aviation product. The MCAI describes the unsafe condition as cracking found in the wing rear spar web at the wing station where the flap outboard hinge is attached. This action revises the proposal by issuing an SNPRM that changes the compliance times to more closely match the compliance times in the MCAI. We are proposing this AD to address the unsafe condition on these products. Since these actions may impose an additional burden over those in the notice of proposed rulemaking (NPRM), we are reopening the comment period to allow the public the opportunity to comment on these changes.

DATES: We must receive comments on this proposed AD by June 21, 2018.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this proposed AD, contact Viking Air Limited Technical Support, 1959 De Havilland Way, Sidney, British Columbia, Canada, V8L 5V5; telephone: (North America) (800) 663-8444; fax: (250) 656-0673; email: technical.support@vikingair.com; internet: http://www.vikingair.com/support/service-bulletins. You may view this service information at the FAA, Policy and Innovation Division, 901 Locust, Kansas City, Missouri 64106. For information on the availability of this material at the FAA, call (816) 329-4148.

Examining the AD Docket

You may examine the AD docket on the internet at http://www.regulations.gov by searching for and locating Docket No. FAA-2017-0867; or in person at Docket Operations between 9 a.m. and 5 p.m., Monday through Friday, except Federal holidays. The AD docket contains this proposed AD, the regulatory evaluation, any comments received, and other information. The street address for Docket Operations (telephone (800) 647-5527) is in the ADDRESSES section. Comments will be available in the AD docket shortly after receipt.

FOR FURTHER INFORMATION CONTACT: Aziz Ahmed, Aerospace Engineer, FAA, New York ACO Branch, 1600 Stewart Avenue, Suite 410, Westbury, New York 11590; telephone: (516) 228-7329; fax: (516) 794-5531; email: aziz.ahmed@faa.gov.

SUPPLEMENTARY INFORMATION:

Comments Invited

We invite you to send any written relevant data, views, or arguments about this proposed AD. Send your comments to an address listed under the ADDRESSES section. Include “Docket No. FAA-2017-0867; Product Identifier 2017-CE-021-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend 14 CFR part 39 with an NPRM for all Viking Air Limited Models DHC-2 Mk. I, DHC-2 Mk. II, and DHC-2 Mk. III airplanes, which was published in the Federal Register on September 8, 2017 (82 FR 42489). The NPRM proposed to require actions intended to address the unsafe condition for the products listed above and was based on MCAI originated by another country.

Since the NPRM was issued, we received a comment to change the compliance time for the inspections in the NPRM to be in line with the compliance times stated in Transport Canada, which is the aviation authority for Canada, AD Number CF-2017-17, dated May 18, 2017 (referred to after this as “the MCAI”).

Comments

We have considered the following comment received on the NPRM.

Request To Change the Compliance Times for the Inspections

Adam Geber stated that the compliance times in the NPRM for the inspections specified in paragraphs (f)(1) and (f)(2) should be changed to match the compliance times stated in the MCAI AD and the related service information.

Adam Geber requested including the 6-month compliance time from the MCAI AD into the proposed AD.

We agree with the commenter. We have changed paragraphs (f)(1) and (f)(2) in this SNPRM from “within the next 400 hours TIS after the effective date of this AD” to “within the next 400 hours TIS after the effective date of this AD or within the next 6 months after the effective date of this AD, whichever occurs first.”

Related Service Information Under 1 CFR Part 51

Viking Air Limited has issued DHC-2 Beaver Service Bulletin Number: V2/0009, Revision A, dated February 10, 2017. The service information describes procedures for inspecting the left-hand and right-hand wing rear spars, the flap/aileron hinge brackets, and the exterior store support bracket for cracks, damage, and discrepancies and specifies repairing or replacing any cracked, damaged, or discrepant parts. This service information is reasonably available because the interested parties have access to it through their normal course of business or by the means identified in the ADDRESSES section.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

The change described above expands the scope of the NPRM. As a result, we have determined that it is necessary to reopen the comment period to provide additional opportunity for the public to comment on the proposed AD.

Interim Action

We consider this SNPRM interim action. The inspection report required by this SNPRM allows us to obtain better information into the nature, cause, and extent of the damage to the wing rear spars and flap/aileron hinge arm support brackets and to develop final action to address the unsafe condition. Once final action has been identified, we may consider further rulemaking.

Costs of Compliance

We estimate that this SNPRM will affect 140 products of U.S. registry. We also estimate that it would take about 11 work-hours per product to comply with the basic inspection requirements of this SNPRM. The average labor rate is $85 per work-hour.

Based on these figures, we estimate the basic cost of this proposed AD on U.S. operators to be $130,900, or $935 per product.

In addition, the following is an estimate of possible necessary follow-on replacement actions. We have no way of determining the number of products that may need these actions.

Part No. | Left-hand (LH) or right-hand (RH) wing | Description | Number per airplane | Parts cost | Number of work-hours to replace
C2W123A | Both (one per wing) | Hinge bracket LH inboard (flap)/RH outboard (aileron) | 2 | $288 for both | 12 for both.
C2W124A | Both (one per wing) | Hinge bracket RH inboard (flap)/LH outboard (aileron) | 2 | $288 for both | 12 for both.
C2W143 | Both (four per wing) | Hinge bracket, flap and aileron (common part—multiple wing stations (WS)) | 8 | $271 for all eight | 12 for all eight.
C2W143A (Agricultural Option) | Both (one per wing) | Agricultural (optional configuration)—hinge bracket, support arm (IPC PSM 1-2-4 Figure 128, Item 15) | 2 (if applies) | $271 for both | 12 for both.
C2W63 | LH | Inboard spar, rear spar |  | $277 | 60.
C2W64 | RH | Inboard spar, rear spar |  | $277 | 60.
C2W155 | Both (one per wing) | Intermediate spar | 2 | $563 for both | 60 for both.
C2W65A | LH | Spar WS 89.16 to WS 170.16 | 1* | $835 | 60.
C2W66A | RH | Spar WS 89.16 to WS 170.16 | 1* | $835 | 60.
C2W67A | LH | Outboard spar, WS 170.16 to WS 245.75 | 1* | $835 | 60.
C2W68A | RH | Outboard spar, WS 170.16 to WS 245.75 | 1* | $835 | 60.
*To replace any wing spar section takes 60 work-hours.

To replace all four wing spar sections per wing takes 240 work-hours.

There has been no change in the Cost of Compliance section in this SNPRM.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Viking Air Limited: Docket No. FAA-2017-0867; Product Identifier 2017-CE-021-AD.

(a) Comments Due Date

We must receive comments by June 21, 2018.

(b) Affected ADs

None.

(c) Applicability

This AD applies to Viking Air Limited Models DHC-2 Mk. I, DHC-2 Mk. II, and DHC-2 Mk. III airplanes, all serial numbers, certificated in any category.

(d) Subject

Air Transport Association of America (ATA) Code 57: Wings.

(e) Reason

This AD was prompted by mandatory continuing airworthiness information (MCAI) originated by an aviation authority of another country to identify and address an unsafe condition on an aviation product. The MCAI describes the unsafe condition as cracking found in the wing rear spar web at the wing station (WS) where the flap outboard hinge is attached. We are issuing this AD to detect and correct cracks in the wing rear spars and the flap/aileron hinge arm support brackets, which could cause these parts to fail. Failure of the wing rear spars and the flap/aileron hinge arm support brackets could result in loss of control.

(f) Actions and Compliance

Unless already done, do the actions in paragraphs (f)(1) through (5) of this AD:

(1) Within the next 400 hours time-in-service (TIS) after the effective date of this AD or within the next 6 months after the effective date of this AD, whichever occurs first, visually inspect the left-hand and right-hand wing rear spar and flap/aileron hinge arm support brackets following the Accomplishment Instructions of Viking DHC-2 Beaver Service Bulletin Number: V2/0009, Revision A, dated February 10, 2017 (SB V2/0009, Revision A).

(2) For airplanes with agricultural configuration installed (SOO Mod 2/984), within the next 400 hours TIS after the effective date of this AD or within the next 6 months after the effective date of this AD, whichever occurs first, inspect the exterior store support arm bracket at wing station (WS) 101.24 following the Accomplishment Instructions of SB V2/0009, Revision A.

(3) If any discrepancies are found during the inspections required in paragraphs (f)(1) and (2) of this AD, before further flight, repair or replace using a method approved by the Manager, New York ACO Branch, FAA; or Transport Canada; or Viking Air Limited's Transport Canada Design Organization Approval (DOA). If approved by the DOA, the approval must include the DOA-authorized signature.

(4) Within 30 days after completing the inspections required in paragraphs (f)(1) and (2) of this AD, using the Operator Reply Form on page 7 of SB V2/0009, Revision A, report the inspection results to Viking Air Limited at the address specified in paragraph (h) of this AD.

(5) As of the effective date of this AD, do not install a wing on any airplane affected by this AD unless it has been inspected as specified in paragraph (f)(1) of this AD and paragraph (f)(2) of this AD, as applicable, and is found free of any discrepancies.

(g) Other FAA AD Provisions

The following provisions also apply to this AD:

(1) Alternative Methods of Compliance (AMOCs): The Manager, New York ACO Branch, FAA, has the authority to approve AMOCs for this AD, if requested using the procedures found in 14 CFR 39.19. Send information to ATTN: Aziz Ahmed, Aerospace Engineer, FAA, New York ACO Branch, 1600 Stewart Avenue, Suite 410, Westbury, New York 11590; telephone: (516) 228-7329; fax: (516) 794-5531; email: aziz.ahmed@faa.gov. Before using any approved AMOC on any airplane to which the AMOC applies, notify your appropriate principal inspector (PI) in the FAA Flight Standards District Office (FSDO), or lacking a PI, your local FSDO.

(2) Contacting the Manufacturer: For any requirement in this AD to obtain corrective actions from a manufacturer, the action must be accomplished using a method approved by the Manager, New York ACO Branch, FAA; or Transport Canada; or Viking Air Limited's Transport Canada Design Organization Approval (DOA). If approved by the DOA, the approval must include the DOA-authorized signature.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(h) Related Information

Refer to MCAI Transport Canada AD Number CF-2017-17, dated May 18, 2017, for related information. You may examine the MCAI on the internet at http://www.regulations.gov by searching for and locating Docket No. FAA-2017-0867. For service information related to this AD, contact Viking Air Limited Technical Support, 1959 De Havilland Way, Sidney, British Columbia, Canada, V8L 5V5; telephone: (North America) (800) 663-8444; fax: (250) 656-0673; email: technical.support@vikingair.com; internet: http://www.vikingair.com/support/service-bulletins. You may review copies of the referenced service information at the You may view this service information at the FAA, Policy and Innovation Division, 901 Locust, Kansas City, Missouri 64106. For information on the availability of this material at the FAA, call (816) 329-4148.

Issued in Kansas City, Missouri, on April 20, 2018.
Melvin Johnson,
Deputy Director, Policy and Innovation Division, Aircraft Certification Service.

[FR Doc. 2018-08948 Filed 5-4-18; 8:45 am]

BILLING CODE 4910-13-P